DEPARTMENT OF AGRICULTURE

Forest Service

Olympic Provincial Advisory Committee

AGENCY: Forest Service, USDA.

ACTION: Notice of meeting.

SUMMARY: The Olympic Province Advisory Committee (OPAC) will meet on Friday, August 26, 2005. The meeting will be held at the DNR/Forest Service Conference Room, 437 Tillicum Lane, Forks, Washington. The meeting will begin at 9:30 a.m. and end at approximately 3 p.m. Agenda topics are: Current Status of Key Forest Issues; Management of Late Successional Reserves; Pacific Ranger District's Recent and Planned Activities; Pacific Northwest Lab Update; Olympic Discovery Trail Update; Open forum; and Public comments. All Olympic Province Advisory Committee Meeetings are open to the public. Interested citizens are encouraged to attend.

FOR FURTHER INFORMATION CONTACT: Direct questions regarding this meeting to Ken Eldredge, Province Liaison, USDA, Olympic National Forest Headquarters, 1835 Black Lake Blvd., Olympia, WA 98512-5623, (360) 956-2323 or Virginia Grilley, Acting Forest Supervisor at (360) 956-2301.

Dated: July 27, 2005.
V. Grilley,
Acting Forest Supervisor, Olympic National Forest.

[FR Doc. 05-15274 Filed 8-2-05; 8:45 am]

BILLING CODE 3410-11-M